DEPARTMENT OF ENERGY

Federal Energy Regulatory Commission

Combined Notice of Filings #1

April 10, 2009.

Take notice that the Commission received the following electric corporate filings:

Docket Numbers: EC07-30-001; EC09-65-000.

Applicants: KGEN Hinds LLC, KGen Hot Spring LLC, KGEN Murray I and II LLC, KGEN Sandersville LLC.

Description: Requests for Clarification, or, in the Alternative, Authorization under Section 203 of the FPA and on April 7, 2009 file and supplement to this filings.

Filed Date: 03/31/2009; 04/07/2009.

Accession Number: 20090331-5236; 20090407-5050.

Comment Date: 5 p.m. Eastern Time on Tuesday, April 28, 2009.

Docket Numbers: EC09-67-000.

Applicants: Citigroup Energy Canada ULC, San Juan Mesa Wind Project, LLC,C handler Wind Partners, LLC, Foote Creek II, LLC, Foote Creek IV, LLC, Ridge Crest Wind Partners, LLC, Terra-Gen VG Wind, LLC, Terra-Gen 251 Wind, LLC, Citigroup Energy Inc., Phibro LLC, Foote Creek III, LLC.

Description: Emergency Application of Citigroup Energy Inc., et al. for Authorization for Disposition of Jurisdictional Facilities and Request for Expedited Action and Effective Date of Authorization.

Filed Date: 04/09/2009.

Accession Number: 20090409-5094.

Comment Date: 5 p.m. Eastern Time on Thursday, April 30, 2009.

Take notice that the Commission received the following electric rate filings:

Docket Numbers: ER03-1368-005.

Applicants: Cleco Power LLC.

Description: Cleco Power, LLC submits Notice of Cancellation of Rate Schedule 5, to be effective in 60 days.

Filed Date: 04/09/2009.

Accession Number: 20090410-0073.

Comment Date: 5 p.m. Eastern Time on Thursday, April 30, 2009.

Docket Numbers: ER06-615-047; ER07-1257-011.

Applicants: California Independent System Operator Corporation.

Description: California Independent System Operator Corporation submits Attachment A Market Disruption Compliance.

Filed Date: 04/08/2009.

Accession Number: 20090409-0055.

Comment Date: 5 p.m. Eastern Time on Wednesday, April 29, 2009.

Docket Numbers: ER09-486-002.

Applicants: Ashtabula Wind, LLC.

Description: Refund Report of Ashtabula Wind, LLC.

Filed Date: 04/10/2009.

Accession Number: 20090410-5042.

Comment Date: 5 p.m. Eastern Time on Friday, May 01, 2009.

Docket Numbers: ER09-508-001.

Applicants: PacifiCorp.

Description: Compliance Filing of PacifiCorp under ER09-508.

Filed Date: 04/08/2009.

Accession Number: 20090408-5130.

Comment Date: 5 p.m. Eastern Time on Wednesday, April 29, 2009.

Docket Numbers: ER09-726-002.

Applicants: Vision Power, LLC.

Description: Vision Power, LLC resubmits its Substitute Original Sheet 1 to FERC Electric Tariff, Original Volume 1.

Filed Date: 04/09/2009.

Accession Number: 20090410-0070.

Comment Date: 5 p.m. Eastern Time on Thursday, April 30, 2009.

Docket Numbers: ER09-787-001.

Applicants: E.ON U.S. LLC.

Description: E. ON U.S. LLC et submits proposed amendments to the Network Integration Transmission Service Agreement etc.

Filed Date: 04/07/2009.

Accession Number: 20090408-0122.

Comment Date: 5 p.m. Eastern Time on Tuesday, April 28, 2009.

Docket Numbers: ER09-800-001.

Applicants: Panda Brandywine LP.

Description: Panda-Brandywine, LP submits an amendment to the 3/5/09 filing.

Filed Date: 04/09/2009.

Accession Number: 20090410-0071.

Comment Date: 5 p.m. Eastern Time on Thursday, April 30, 2009.

Docket Numbers: ER09-867-001.

Applicants: Carolina Power & Light Company.

Description: Carolina Power & Light Co resubmits their 3/20/09 filing of a Network Integration Transmission Service Agreement et al.

Filed Date: 04/09/2009.

Accession Number: 20090410-0072.

Comment Date: 5 p.m. Eastern Time on Thursday, April 30, 2009.

Docket Numbers: ER09-961-000.

Applicants: Midwest Independent Transmission System Operator, Inc.

Description: Midwest Independent Transmission System Operator, Inc submits Request to Terminate the Market Participant Agreement between the Midwest ISO and Core Energy Services, Inc and Notice Regarding Continuing and Anticipated Default.

Filed Date: 04/07/2009.

Accession Number: 20090408-0151.

Comment Date: 5 p.m. Eastern Time on Tuesday, April 28, 2009.

Docket Numbers: ER09-966-000.

Applicants: Virginia Electric and Power Company.

Description: Dominion Virginia Power submits a revised cover sheet to cancel Original Service Agreement 1316 to FERC Electric Tariff Sixth Revised Volume 1 re a Generator Interconnection and Operation Agreement with Wells Fargo Bank Northwest et al.

Filed Date: 04/08/2009.

Accession Number: 20090408-0116.

Comment Date: 5 p.m. Eastern Time on Wednesday, April 29, 2009.

Docket Numbers: ER09-967-000.

Applicants: Southern California Edison Company.

Description: Southern California Edison submits changes to facilities charges re agreements with the City of Azusa et al.

Filed Date: 04/08/2009.

Accession Number: 20090408-0117.

Comment Date: 5 p.m. Eastern Time on Wednesday, April 29, 2009.

Docket Numbers: ER09-968-000.

Applicants: Cygnus Energy Futures, LLC.

Description: Cygnus Energy Futures, LLC submits notice canceling its market based rate tariff, FERC Electric Tariff, Original Volume No 1.

Filed Date: 04/08/2009.

Accession Number: 20090409-0056.

Comment Date: 5 p.m. Eastern Time on Wednesday, April 29, 2009.

Docket Numbers: ER09-969-000.

Applicants: Cygnus Energy Partners, LLC.

Description: Cygnus Energy Partners, LLC submits notice canceling its market based rate tariff, FERC Electric Tariff, Original Volume No 1.

Filed Date: 04/08/2009.

Accession Number: 20090409-0057.

Comment Date: 5 p.m. Eastern Time on Wednesday, April 29, 2009.

Docket Numbers: ER09-970-000.

Applicants: Maine Public Service Company.

Description: Maine Public Service Company submits Service Agreements for the Resale, Reassignment, or Transfer of Point to Point Transmission Service among MPS, etc.

Filed Date: 04/08/2009.

Accession Number: 20090409-0058.

Comment Date: 5 p.m. Eastern Time on Wednesday, April 29, 2009.

Docket Numbers: ER09-971-000.

Applicants: New York Independent System Operator, Inc.

Description: New York Independent System Operator, Inc submits revisions to Schedule 1 of its Open Access Transmission Tariff and Rate Schedule 1 of its Market Administration and Control Area Services Tariff.

Filed Date: 04/08/2009.

Accession Number: 20090409-0059.

Comment Date: 5 p.m. Eastern Time on Wednesday, April 29, 2009.

Docket Numbers: ER09-972-000.

Applicants: New York Independent System Operator, Inc.

Description: Notification of tariff implementation errors and request for limited tariff waivers of the New York Independent System Operator, Inc.

Filed Date: 04/08/2009.

Accession Number: 20090409-0060.

Comment Date: 5 p.m. Eastern Time on Wednesday, April 29, 2009.

Docket Numbers: ER09-974-000.

Applicants: Pacific Gas and Electric Company.

Description: Pacific Gas and Electric Co submits a Notice of Termination of the Interconnection Agreement with Nevada Power Company.

Filed Date: 04/09/2009.

Accession Number: 20090410-0069.

Comment Date: 5 p.m. Eastern Time on Thursday, April 30, 2009.

Docket Numbers: ER09-975-000.

Applicants: Energy Endeavors LP.

Description: Energy Endeavors, LP submits a Notice of Non-Material Change in Status.

Filed Date: 04/09/2009.

Accession Number: 20090410-0068.

Comment Date: 5 p.m. Eastern Time on Thursday, April 30, 2009.

Docket Numbers: ER09-976-000.

Applicants: American Electric Power Service Corporation.

Description: Ohio Power Co et al submits their revised Interconnection and Local Delivery Service Agreement.

Filed Date: 04/09/2009.

Accession Number: 20090410-0067.

Comment Date: 5 p.m. Eastern Time on Thursday, April 30, 2009.

Docket Numbers: ER09-977-000.

Applicants: PJM Interconnection LLC.

Description: PJM Interconnection, LLC submits modifications to its Open Access Transmission Tariff.

Filed Date: 04/09/2009.

Accession Number: 20090410-0066.

Comment Date: 5 p.m. Eastern Time on Thursday, April 30, 2009.

Docket Numbers: ER09-978-000.

Applicants: PJM Interconnection LLC.

Description: PJM Interconnection, LLC submits modification to its Open Access Transmission Tariff.

Filed Date: 04/09/2009.

Accession Number: 20090410-0065.

Comment Date: 5 p.m. Eastern Time on Thursday, April 30, 2009.

Docket Numbers: ER09-979-000.

Applicants: Cleco Power LLC.

Description: Cleco Power, LLC submits Notice of Cancellation of Rate Schedule 5, to be effective in 60 days.

Filed Date: 04/09/2009.

Accession Number: 20090410-0073.

Comment Date: 5 p.m. Eastern Time on Thursday, April 30, 2009.

Take notice that the Commission received the following open access transmission tariff filings:

Docket Numbers: OA09-7-001.

Applicants: Midwest Independent Transmission System Operator, Inc.

Description: Midwest Independent Transmission System Operator, Inc submits compliance filing revising its Open Access Transmission, Energy and Operating Reserve Markets Tariff.

Filed Date: 04/09/2009.

Accession Number: 20090410-0064.

Comment Date: 5 p.m. Eastern Time on Thursday, April 30, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-9114 Filed 4-20-09; 8:45 am]

BILLING CODE 6717-01-P